DEPARTMENT OF AGRICULTURE

Agricultural Marketing Service

7 CFR Part 1210

[Docket No. FV-00-1210-610 REVIEW]

Watermelon Research and Promotion Plan; Section 610 Review

AGENCY: Agricultural Marketing Service, USDA.

ACTION: Proposed rule; notice of review and request for comments.

SUMMARY: This action announces the Agricultural Marketing Service (AMS) review of the Watermelon Research and Promotion Plan, under the criteria contained in sec. 610 of the Regulatory Flexibility Act (RFA).

DATES: Written comments on this document must be received by May 16, 2000.

ADDRESSES: Interested persons are invited to submit written comments concerning this notice of review to the Docket Clerk, Research and Promotion Branch, Fruit and Vegetable Programs, Agricultural Marketing Service, USDA, Stop 0244, Room 2535-S, 1400 Independence Avenue, S.W., Washington, D.C. 20250-0244. Comments should be submitted in triplicate and will be made available for public inspection at the above address during regular business hours. Comments may also be submitted electronically to: malinda.farmer@usda.gov. All comments should reference the docket number and the date and page number of this issue of the Federal Register. A copy of this notice may be found at: www.ams.usda.gov/fv/rpdocketlist.htm.

FOR FURTHER INFORMATION CONTACT: Karen T. Comfort, Research and Promotion Branch, Fruit and Vegetable Programs, AMS, USDA, Stop 0244, 1400 Independence Avenue, S.W., Room 2535-S, Washington, D.C. 20250-0244; telephone (888) 720-9917; Fax (202) 205-2800; or E-mail: Karen.Comfort@usda.gov.

SUPPLEMENTARY INFORMATION: The Watermelon Research and Promotion Plan (7 CFR Part 1210), regulates the development and financing (through assessments on watermelons produced in or imported into the United States) of effective, continuous, and coordinated programs of research, development, advertising, and promotion designed to strengthen, maintain, and expand domestic and foreign markets for watermelons. The Watermelon Research and Promotion Plan (Plan) is authorized under the Watermelon Research and Promotion Act, as amended by the Watermelon Research and Promotion Improvement of 1993 (7 U.S.C. 4901-4916), hereinafter referred to as the Act.

Background

On February 18, 1999, AMS published in the Federal Register (63 FR 8014) its plan to review certain regulations, including the Plan, under the criteria contained in sec. 610 of the Regulatory Flexibility Act (RFA) (5 U.S.C. 601-612). Because many AMS regulations impact small entities, AMS decided, as a matter of policy, to review certain regulations which, although they may not meet the threshold requirement under sec. 610 of the RFA, merit review. The February 18 notice stated that AMS would list the regulations to be reviewed in AMS' regulatory agenda which is published in the Federal Register as part of the Unified Agenda. However, after further consideration, AMS has decided to announce the reviews in the Federal Register separate from the Unified Agenda. Accordingly, this notice and request for comments is made for the review of the Plan.

The purpose of the review will be to determine whether the Plan should be continued without change, amended, or rescinded (consistent with the objectives of the Act) to minimize the impacts on small entities. In conducting this review, AMS will consider the following factors: (1) The continued need for the Plan; (2) the nature of complaints or comments received from the public concerning the Plan; (3) the complexity of the Plan; (4) the extent to which the Plan overlaps, duplicates, or conflicts with other Federal rules, and, to the extent feasible, with State and local governmental rules; and (5) the length of time since the Plan has been evaluated or the degree to which technology, economic conditions, or other factors have changed in the area affected by the Plan.

Written comments, views, opinions, and other information regarding the Plan's impact on small businesses are invited.

Dated: March 10, 2000.
Robert C. Keeney,
Deputy Administrator, Fruit and Vegetable Programs.

[FR Doc. 00-6428 Filed 3-16-00; 8:45 am]

BILLING CODE 3410-02-P